DEPARTMENT OF JUSTICE

[OMB 1140-0031]

Agency Information Collection Activities; Proposed eCollection eComments Requested; Revision of a Previously Approved Collection; Records of Acquisition and Disposition by Registered Importers of Arms, Ammunition, and Defense Articles on the U.S. Munitions Import List

AGENCY: Bureau of Alcohol, Tobacco, Firearms, and Explosives, Department of Justice.

ACTION: 60-Day notice.

SUMMARY: The Department of Justice (DOJ), The Bureau of Alcohol, Tobacco, Firearms, and Explosives (ATF), will be submitting the following information collection request to the Office of Management and Budget (OMB) for review and approval in accordance with the Paperwork Reduction Act of 1995.

DATES: Comments are encouraged and will be accepted for 60 days until December 3, 2024.

FOR FURTHER INFORMATION CONTACT: If you have questions, especially on the estimated public burden or associated response time, suggestions, or need a copy of the proposed information collection instrument with instructions or additional information, contact: Victoria Kenney, FESD/FEIB, either by mail at 244 Needy Road, Martinsburg, WV 25405, by email at Victoria.Kenney@atf.gov, or telephone at 304-616-3376.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether, and if so, how the quality, utility, and clarity of the information to be collected can be enhanced; and

—Minimize the burden of the collection of information on those who are to respond, including through the use of appropriate automated, electronic, mechanical, or other technological collection techniques or other forms of information technology, e.g., permitting electronic submission of responses.

Summary of changes: Information Collection (IC) OMB 1140-0031 is being revised to change the title from `Records of Acquisition and Disposition, Registered Importers of Arms, Ammunition & Implements of War on the U.S. Munitions Import List' to `Records of Acquisition and Disposition by Registered Importers of Arms, Ammunition, and Defense Articles on the U.S. Munitions Import List' to reflect a change in terminology. It is also being slightly revised in the section describing the purpose, to clarify the record-keeping requirements, although those requirements are not changing. In addition, it is being revised to update the time burdens to the public, to keep up with changes to the number of respondents, and to apply a monetized value to the time burden.

Abstract: The records associated with this collection are defense articles other than firearms and ammunition enumerated on the U.S. Munitions Import List. This collection requires importers of such items to maintain records of their importing activities, including the ATF Forms 6 and 6A they submit.

Overview of This Information Collection

1. Type of Information Collection: Revision of a previously approved collection.

2. The Title of the Form/Collection: Records of Acquisition and Disposition by Registered Importers of Arms, Ammunition, and Defense Articles on the U.S. Munitions Import List.

3. The agency form number, if any, and the applicable component of the Department sponsoring the collection: Form number: None.

Component: Bureau of Alcohol, Tobacco, Firearms, and Explosives, U.S. Department of Justice.

4. Affected public who will be asked or required to respond, as well as the obligation to respond: Affected Public: Private Sector for- or not-for-profit institutions.

The obligation to respond is mandatory under law at 22 U.S.C. 2778 and regulations at 27 CFR 447.54.

5. An estimate of the total number of respondents and the amount of time estimated for an average respondent to respond: An estimated 12,699 respondents will respond to this collection 29,733 times total annually (not per respondent), and it will take each respondent approximately 30 minutes to complete one type of response and 35 minutes to complete another type of response.

6. An estimate of the total annual burden (in hours) associated with the collection: The estimated annual public burden associated with this collection is 16,286 total hours, which is equal to (12,699 responses * 0.5 hours (30 minutes) + 17,034 responses * 0.5834 hours (35 minutes).

7. An estimate of the total annual cost burden associated with the collection, if applicable: The total monetized value of the time burden associated with this collection is $472,294 (29,733 total responses * $15.88 cost per response (wage rate for 30-35 minutes)).

Table—Estimated Annualized Respondent Hour Burden and Monetized Value
Activity | Total annual responses | Time per response | Total annual burden (hours) | Hourly rate * | Monetized value of respondent time
Records of acquisition and disposition—U.S. Munitions Import List (Form 6) | 12,699 | 30 | 6,350 | $29.00 | $184,136
Records of acquisition and disposition—U.S. Munitions Import List (Form 6A) | 17,034 | 35 | 9,936.50 | 29.00 | 288,159
Unduplicated totals | 29,733 |  | 16,286 |  | 472,294

If additional information is required contact: Darwin Arceo, Department Clearance Officer, United States Department of Justice, Justice Management Division, Policy and Planning Staff, Two Constitution Square, 145 N Street NE, 4W-218, Washington, DC.

Dated: October 1, 2024.
Darwin Arceo,
Department Clearance Officer for PRA, U.S. Department of Justice.

[FR Doc. 2024-23023 Filed 10-3-24; 8:45 am]

BILLING CODE 4410-FY-P